DEPARTMENT OF COMMERCE

International Trade Administration

[A-570-836]

Notice of Final Results of Expedited Sunset Review of the Antidumping Duty Order: Glycine From the People's Republic of China

AGENCY: Import Administration, International Trade Administration, Department of Commerce.

SUMMARY: On October 1, 2010, the Department of Commerce (“the Department”) initiated a sunset review of the antidumping duty order on glycine from the People's Republic of China (“PRC”) pursuant to section 751(c) of the Tariff Act of 1930, as amended (“the Act”). See Initiation of Five-Year (“Sunset”) Review, 75 FR 60731 (October 1, 2010) (“Initiation”). Based on filings by domestic interested parties and pursuant to section 751(c)(3)(B) of the Act and section 351.218(e)(1)(ii)(A) of the Department's regulations, the Department conducted an expedited sunset review of the antidumping duty order. As a result of this sunset review, the Department finds that revocation of the antidumping duty order would likely lead to continuation or recurrence of dumping at the level indicated in the “Final Results of Review” section of this notice.

DATES: Effective Date: February 9, 2011.

FOR FURTHER INFORMATION CONTACT: Patrick Edwards or Angelica Mendoza, AD/CVD Operations, Office 7, Import Administration, International Trade Administration, U.S. Department of Commerce, 14th Street and Constitution Avenue, NW., Washington, DC 20230; telephone: 202-482-8029 or 202-482-3019, respectively.

SUPPLEMENTARY INFORMATION:

Background

On October 1, 2010, the Department initiated a sunset review of the antidumping duty order on glycine from the PRC pursuant to section 751(c) of the Act. See Initiation. On October 5, 2010, the Department received a notice of intent to participate from the following domestic interested parties: GEO Specialty Chemicals (“GEO”) and Chattem Chemicals, Inc. (“Chattem”) (collectively the Glycine Producers of the United States or “the domestic interested parties”), within the deadline specified in 19 CFR 351.218(d)(1)(I). See Letter from David M. Schwartz, to Secretary Gary Locke, titled “Sunset Review of the Antidumping Order on Glycine from the People's Republic of China—Notification of Intent to Participate by Domestic Interested Parties,” dated October 5, 2010. In this letter, the domestic interested parties claimed interested party status under section 771(9)(C) of the Act, as U.S. manufacturers of glycine. On October 29, 2010, the Department received a complete substantive response from the domestic interested parties within the 30-day deadline specified in 19 CFR 351.218(d)(3)(i). See Letter from David M. Schwartz, to Secretary Gary Locke, titled “Sunset Review of the Antidumping Order on Glycine from the People's Republic of China—Substantive Response to Notice of Initiation,” dated October 29, 2010. The Department did not receive any comments from producers or exporters of glycine from the PRC.

Based on the submissions of the domestic interested parties and pursuant to section 751(c)(3)(B) of the Act and 19 CFR 351.218(e)(1)(ii)(C)(2), the Department has conducted the sunset review on an expedited basis.

Scope of Order

The product covered by the order is glycine, which is a free-flowing crystalline material, like salt or sugar. Glycine is produced at varying levels of purity and is used as a sweetener/taste enhancer, a buffering agent, reabsorbable amino acid, chemical intermediate, and a metal complexing agent. This order covers glycine of all purity levels. Glycine is currently classified under subheading 2922.49.4020 of the Harmonized Tariff Schedule of the United States (“HTSUS”). In a separate scope ruling, the Department determined that D(-) Phenylglycine Ethyl Dane Salt is outside the scope of the order. See Notice of Scope Rulings, 62 FR 62288 (November 21, 1997). Although the HTSUS subheading is provided for convenience and Customs purposes, the written description of the merchandise under the order is dispositive.

Analysis of Comments Received

All issues raised in this review are addressed in the Issues and Decision Memorandum (“Decision Memorandum”) from Christian Marsh, Deputy Assistant Secretary for Antidumping and Countervailing Duty Operations, to Ronald K. Lorentzen, Deputy Assistant Secretary for Import Administration, dated January 31, 2011, which is hereby adopted by this notice. The issues discussed in the accompanying Decision Memorandum address the likelihood of a continuation or recurrence of dumping were the order to be revoked and also the magnitude of the margin likely to prevail upon revocation. Parties can find a complete discussion of the issues raised in this review and the corresponding recommendations in this public memorandum, which is on file in the Central Records Unit, room 7046 of the main Commerce building. In addition, a complete version of the Decision Memorandum can be accessed directly on the Web at http://ia.ita.doc.gov/frn. The paper copy and electronic version of the Decision Memorandum are identical in content.

Final Results of Review

The Department determines that revocation of the antidumping duty order on glycine from the PRC would be likely to lead to a continuation or recurrence of dumping at the following weighted-average percentage margin:

Manufacturers/producers/ exporters | Weighted-average margin
PRC-Wide Entity (all manufacturers/producers/exporters) | 155.89%

The Department is issuing and publishing these results and notice in accordance with sections 751(c), 752, and 777(i)(1) of the Act.

Dated: January 31, 2010.
Ronald K. Lorentzen,
Deputy Assistant Secretary for Import Administration.

[FR Doc. 2011-2883 Filed 2-8-11; 8:45 am]

BILLING CODE 3510-DS-P